DEPARTMENT OF LABOR

Employment and Training Administration

Program Year 2011 Allotments and Grants: Workforce Investment Act, Wagner-Peyser Act, and Workforce Information

AGENCY: Employment and Training Administration, Labor.

ACTION: Notice.

SUMMARY: This Notice announces allotments for PY 2011 for WIA Title I Youth, Adults and Dislocated Worker Activities programs; final allotments for Employment Service (ES) activities under the Wagner-Peyser Act for PY 2011 and Workforce Information Grants allotments for PY 2011.

The WIA allotments for States and the State final allotments for the Wagner-Peyser Act are based on formulas defined in their respective statutes. The WIA allotments for the outlying areas are based on a formula determined by the Secretary. For Wagner-Peyser and Workforce Information Grants, amounts for outlying areas are provided in this Notice. ETA will release a separate TEGL and Notice in the Federal Register announcing the formulas and allotment levels related to the WIA funding for each of the outlying areas. At this time, we note only the overall WIA funds set aside for the outlying areas.

DATES: This Notice is effective on May 17, 2011.

FOR FURTHER INFORMATION CONTACT: WIA Youth Activities allotments—Evan Rosenberg at (202) 693-3593 or LaSharn Youngblood at (202) 693-3606; WIA Adult and Dislocated Worker Activities and ES final allotments—Mike Qualter at (202) 693-3014; Workforce Information Grant allotments—Anthony Dais at (202) 693-2784.

SUPPLEMENTARY INFORMATION: The Department of Labor (DOL or Department) is announcing WIA allotments for PY 2011 for Youth Activities, Adults and Dislocated Worker Activities; Wagner-Peyser Act PY 2011 final allotments; and PY 2011 Workforce Information Grant allotments. This Notice provides information on the amount of funds available during PY 2011 to States with an approved WIA Title I and Wagner-Peyser Act Strategic Plan for PY 2011, and information regarding allotments to the outlying areas for Wagner-Peyser and Workforce Information Grants. As noted earlier, a future Notice will announce final allotments to outlying areas for WIA programs.

The allotments are based on the funds appropriated in the Full-Year Continuing Appropriations Act, 2011, Public Law (Pub. L.) 112-10, signed April 15, 2011. This appropriation requires an across-the-board rescission of 0.2 percent to all Federal Fiscal Year (FY) 2011 discretionary program funding. Included below are tables listing the PY 2011 allotments (including the 0.2 percent rescission) for programs under WIA Title I Youth Activities (Table A), Adult and Dislocated Workers Employment and Training Activities (Tables B and C, respectively), and the PY 2011 Wagner-Peyser Act final allotments (Table D). Also attached is the PY 2011 Workforce Information Grant table (Table E).

Youth Activities Allotments. PY 2011 Youth Activities funds under WIA total $825,913,862 (including the 0.2 percent rescission). Table A includes a breakdown of the Youth Activities program allotments for PY 2011 and provides a comparison of these allotments to PY 2010 Youth Activities allotments for all States and the total set aside for outlying areas (levels for individual outlying areas will be announced separately). Before determining the amount available for States, the total funding available for the outlying areas was reserved at 0.25 percent of the full amount appropriated for Youth Activities (after the 0.2 percent rescission).

The total amount available for Native Americans is 1.5 percent of the total amount for Youth Activities (including the 0.2 percent rescission), in accordance with WIA section 127. After determining the amount for the outlying areas and Native Americans, the amount available for allotment to the States for PY 2011 is $811,460,369. This total amount was below the required $1 billion threshold specified in section 127(b)(1)(C)(iv)(IV); therefore, as in PY 2010, the WIA additional minimum provisions were not applied, and, instead, as required by WIA, the Job Training Partnership Act (JTPA) section 202(a)(3) (as amended by section 701 of the Job Training Reform Amendments of 1992) minimums of 90 percent hold-harmless of the prior year allotment percentage and 0.25 percent State minimum floor were used. Also, as required by WIA, the provision applying a 130 percent stop-gain of the prior year allotment percentage was used. The three formula factors required in WIA use the following data for the PY 2011 allotments:

(1) Number of unemployed for Areas of Substantial Unemployment (ASUs), averages for the 12-month period, July 2009 through June 2010;

(2) Number of excess unemployed individuals or the ASU excess (depending on which is higher), averages for the same 12-month period used for ASU unemployed data; and

(3) Number of economically disadvantaged youth (age 16 to 21, excluding college students and military), from special 2000 Census calculations.

As done beginning with the PY 2006 allotments, the ASU data for the PY 2011 allotments was identified by the States using special 2000 Census data based on households, obtained under Employment and Training Administration (ETA) contract with the Census Bureau and provided to States by the Bureau of Labor Statistics.

It should be noted that the most current Census, conducted in 2010, did not include the long form survey which ETA would have used to update the data from the 2000 Census. Instead, ETA will be working with the Census Bureau over the next year to use data from the American Community Survey (ACS). ETA will alert States when new data are available for use in within-State allocation formulas; however, updated data will not be available for use with PY 2011 funding.

Adult Employment and Training Activities Allotments. The total Adult Employment and Training Activities appropriation is $770,921,920 (including the 0.2 percent rescission). Table B shows the PY2011 Adult Employment and Training Activities allotments and comparison to PY 2010 allotments by State. Like the Youth Activities program, the total available for the outlying areas was reserved at 0.25 percent of the full amount appropriated for Adult Activities (after the 0.2 percent rescission). After determining the amount for the outlying areas, the amount available for allotments to the States is $768,994,615. Like the Youth Activities program, the WIA minimum provisions were not applied for the PY 2011 allotments because the total amount available for the States was below the $960 million threshold required for Adult Activities in section 132(b)(1)(B)(iv)(IV). Instead, as required by WIA, the minimum allotments were calculated using the JTPA section 202(a)(3) (as amended by section 701 of the Job Training Reform Amendments of 1992) minimums of 90 percent hold-harmless of the prior year allotment percentage and 0.25 percent State minimum floor. Also, like the Youth Activities program, a provision applying a 130 percent stop-gain of the prior year allotment percentage was used. The three formula factors use the same data as used for the PY 2011 Youth Activities formula, except that data from the 2000 Census for the number of economically disadvantaged adults (age 22 to 72, excluding college students and military) were used.

It should be noted that the most current Census, conducted in 2010, did not include the long form survey which ETA would have used to update the data from the 2000 Census. Instead, ETA will be working with the Census Bureau over the next year to use data from the ACS. ETA will be alert States when data from the ACS are available for use in within-State allocation formulas; however, updated data will not be available for use with PY 2011 funding.

Dislocated Worker Employment and Training Activities Allotments. The total Dislocated Worker appropriation is $1,287,544,000 (including the 0.2 percent rescission). The total appropriation includes formula funds for the States, while the National Reserve is used for National Emergency Grants, technical assistance and training, demonstration projects, and the outlying areas' Dislocated Worker allotments. Table C shows the PY 2011 Dislocated Worker Activities fund allotments by State. Like the Youth and Adult Activities programs, the total available for the outlying areas was reserved at 0.25 percent of the full amount appropriated for Dislocated Worker Activities (after the 0.2 percent rescission). For the State distribution of formula funds, the three formula factors required in WIA use the following data for the PY 2011 allotments:

(1) Number of unemployed, averages for the 12-month period, October 2009 through September 2010;

(2) Number of excess unemployed, averages for the 12-month period, October 2009 through September 2010; and

(3) Number of long-term unemployed, averages for the 12-month period, October 2009 through September 2010.

Since the Dislocated Worker Activities formula has no floor amount or hold-harmless provisions, funding changes for States directly reflect the impact of changes in the number of unemployed.

Wagner-Peyser Act Employment Service Final Allotments. The appropriated level for PY 2011 for ES grants totals $702,168,848 (including the 0.2 percent rescission). After determining the funding for outlying areas, allotments to States were calculated using the formula set forth at section 6 of the Wagner-Peyser Act (29 U.S.C. 49e). PY 2011 formula allotments were based on each State's share of calendar year 2010 monthly averages of the civilian labor force (CLF) and unemployment. The Secretary is required to set aside up to three percent of the total available funds to assure that each State will have sufficient resources to maintain statewide employment service activities, as required under section 6(b)(4) of the Wagner-Peyser Act. In accordance with this provision, the three percent set-aside funds are included in the total allotment. The set-aside funds were distributed in two steps to States that have lost in relative share of resources from the previous year. In Step 1, States that have a CLF below one million and are also below the median CLF density were maintained at 100 percent of their relative share of prior year resources. All remaining set-aside funds were distributed on a pro-rata basis in Step 2 to all other States losing in relative share from the prior year but not meeting the size and density criteria for Step 1. The distribution of Employment Service funds (Table D) includes $700,457,204 for States, as well as $1,711,644 for outlying areas.

Under section 7 of the Wagner-Peyser Act, 10 percent of the total sums allotted to each State shall be reserved for use by the Governor to provide performance incentives for ES offices, services for groups with special needs, and for the extra costs of exemplary models for delivering job services.

Workforce Information Grants Allotments. Total PY 2011 funding for Workforce Information Grants allotments to States is $31,936,000 (including the 0.2 percent rescission). The allotment figures for each State are listed in Table E. Funds are distributed by administrative formula, with a reserve of $176,646 for Guam and the Virgin Islands. The remaining funds are distributed to the States with 40 percent distributed equally to all States and 60 percent distributed based on each State's share of CLF for the 12 months ending September 2010.

Signed in Washington, DC, on this 10th day of May 2011.
Jane Oates,
Assistant Secretary for Employment and Training Administration.

Table A—U.S. Department of Labor, Employment and Training Administration
WIA Youth activities State allotments Comparison of PY 2011 vs PY 2010: State | WIA Youth activities State allotments Comparison of PY 2011 vs PY 2010: PY 2010 | WIA Youth activities State allotments Comparison of PY 2011 vs PY 2010: PY 2011 | WIA Youth activities State allotments Comparison of PY 2011 vs PY 2010: Difference | WIA Youth activities State allotments Comparison of PY 2011 vs PY 2010: % Difference
Total | $924,069,000 | $825,913,862 | ($98,155,138) | −10.62
Alabama | 11,777,698 | 12,455,574 | 677,876 | 5.76
Alaska | 2,755,418 | 2,216,462 | (538,956) | −19.56
Arizona | 15,982,731 | 15,326,190 | (656,541) | −4.11
Arkansas | 8,446,520 | 6,794,393 | (1,652,127) | −19.56
California | 136,875,948 | 117,952,080 | (18,923,868) | −13.83
Colorado | 11,132,070 | 9,788,025 | (1,344,045) | −12.07
Connecticut | 8,869,254 | 8,060,872 | (808,382) | −9.11
Delaware | 2,269,744 | 2,028,651 | (241,093) | −10.62
District of Columbia | 2,779,082 | 2,402,872 | (376,210) | −13.54
Florida | 43,352,872 | 50,372,277 | 7,019,405 | 16.19
Georgia | 28,251,785 | 24,305,197 | (3,946,588) | −13.97
Hawaii | 2,690,193 | 2,272,811 | (417,382) | −15.51
Idaho | 2,950,667 | 3,428,419 | 477,752 | 16.19
Illinois | 43,545,632 | 36,086,031 | (7,459,601) | −17.13
Indiana | 19,697,136 | 16,043,006 | (3,654,130) | −18.55
Iowa | 4,750,212 | 5,519,334 | 769,122 | 16.19
Kansas | 5,930,458 | 5,248,975 | (681,483) | −11.49
Kentucky | 14,303,105 | 12,514,937 | (1,788,168) | −12.50
Louisiana | 14,009,636 | 11,269,372 | (2,740,264) | −19.56
Maine | 3,476,520 | 2,887,584 | (588,936) | −16.94
Maryland | 11,311,383 | 10,073,999 | (1,237,384) | −10.94
Massachusetts | 17,387,925 | 15,988,686 | (1,399,239) | −8.05
Michigan | 51,768,509 | 41,642,666 | (10,125,843) | −19.56
Minnesota | 14,264,509 | 11,474,392 | (2,790,117) | −19.56
Mississippi | 13,081,892 | 10,523,093 | (2,558,799) | −19.56
Missouri | 17,781,382 | 14,549,044 | (3,232,338) | −18.18
Montana | 2,344,418 | 2,174,750 | (169,668) | −7.24
Nebraska | 2,518,508 | 2,288,141 | (230,367) | −9.15
Nevada | 7,654,897 | 8,303,837 | 648,940 | 8.48
New Hampshire | 2,269,744 | 2,253,475 | (16,269) | −0.72
New Jersey | 20,938,294 | 20,362,826 | (575,468) | −2.75
New Mexico | 4,365,301 | 4,775,669 | 410,368 | 9.40
New York | 51,835,670 | 46,253,787 | (5,581,883) | −10.77
North Carolina | 25,351,154 | 24,598,968 | (752,186) | −2.97
North Dakota | 2,269,744 | 2,028,651 | (241,093) | −10.62
Ohio | 39,313,893 | 31,915,350 | (7,398,543) | −18.82
Oklahoma | 6,970,582 | 6,877,913 | (92,669) | −1.33
Oregon | 13,707,810 | 11,026,583 | (2,681,227) | −19.56
Pennsylvania | 31,871,328 | 29,506,561 | (2,364,767) | −7.42
Puerto Rico | 29,722,110 | 23,908,509 | (5,813,601) | −19.56
Rhode Island | 4,531,698 | 3,767,218 | (764,480) | −16.87
South Carolina | 17,299,897 | 13,916,063 | (3,383,834) | −19.56
South Dakota | 2,269,744 | 2,028,651 | (241,093) | −10.62
Tennessee | 18,716,506 | 16,288,215 | (2,428,291) | −12.97
Texas | 57,404,782 | 52,833,195 | (4,571,587) | −7.96
Utah | 3,547,273 | 4,121,624 | 574,351 | 16.19
Vermont | 2,269,744 | 2,028,651 | (241,093) | −10.62
Virginia | 13,127,843 | 13,540,444 | 412,601 | 3.14
Washington | 17,997,280 | 15,992,583 | (2,004,697) | −11.14
West Virginia | 3,924,261 | 4,315,932 | 391,671 | 9.98
Wisconsin | 13,963,286 | 13,099,180 | (864,106) | −6.19
Wyoming | 2,269,744 | 2,028,651 | (241,093) | −10.62
State Total | 907,897,792 | 811,460,369 | (96,437,423) | −10.62
Outlying Areas Total | 2,310,173 | 2,064,785 | (245,388) | −10.62
Native Americans | 13,861,035 | 12,388,708 | (1,472,327) | −10.62

Table B—U.S. Department of Labor, Employment and Training Administration
WIA Adult activities State allotments Comparison of PY 2011 vs PY 2010: State | WIA Adult activities State allotments Comparison of PY 2011 vs PY 2010: PY 2010 (pre-FY 2011 0.2% rescission) | WIA Adult activities State allotments Comparison of PY 2011 vs PY 2010: PY 2011 | WIA Adult activities State allotments Comparison of PY 2011 vs PY 2010: Difference | WIA Adult activities State allotments Comparison of PY 2011 vs PY 2010: % Difference
Total | $861,540,000 | $770,921,920 | ($90,618,080) | −10.52
Alabama | 11,546,269 | 12,090,307 | 544,038 | 4.71
Alaska | 2,630,761 | 2,118,648 | (512,113) | −19.47
Arizona | 15,227,363 | 14,638,503 | (588,860) | −3.87
Arkansas | 7,946,421 | 6,399,544 | (1,546,877) | −19.47
California | 131,676,574 | 113,937,862 | (17,738,712) | −13.47
Colorado | 10,028,610 | 8,838,405 | (1,190,205) | −11.87
Connecticut | 7,899,746 | 7,208,528 | (691,218) | −8.75
Delaware | 2,148,465 | 1,922,487 | (225,978) | −10.52
District of Columbia | 2,416,917 | 2,040,921 | (375,996) | −15.56
Florida | 44,003,639 | 50,666,671 | 6,663,032 | 15.14
Georgia | 26,468,737 | 22,840,137 | (3,628,600) | −13.71
Hawaii | 2,786,714 | 2,375,218 | (411,496) | −14.77
Idaho | 2,793,005 | 3,112,389 | 319,384 | 11.44
Illinois | 40,399,352 | 33,485,477 | (6,913,875) | −17.11
Indiana | 17,396,927 | 14,120,139 | (3,276,788) | −18.84
Iowa | 3,329,069 | 3,872,586 | 543,517 | 16.33
Kansas | 4,907,309 | 4,349,496 | (557,813) | −11.37
Kentucky | 14,765,556 | 12,990,026 | (1,775,530) | −12.02
Louisiana | 13,633,150 | 10,979,275 | (2,653,875) | −19.47
Maine | 3,276,134 | 2,730,113 | (546,021) | −16.67
Maryland | 10,691,615 | 9,553,233 | (1,138,382) | −10.65
Massachusetts | 15,779,759 | 14,398,404 | (1,381,355) | −8.75
Michigan | 48,336,592 | 38,927,229 | (9,409,363) | −19.47
Minnesota | 12,498,015 | 10,065,109 | (2,432,906) | −19.47
Mississippi | 12,175,592 | 9,805,450 | (2,370,142) | −19.47
Missouri | 16,419,448 | 13,419,717 | (2,999,731) | −18.27
Montana | 2,281,343 | 2,120,862 | (160,481) | −7.03
Nebraska | 2,148,465 | 1,922,487 | (225,978) | −10.52
Nevada | 7,675,248 | 8,185,256 | 510,008 | 6.64
New Hampshire | 2,148,465 | 1,922,487 | (225,978) | −10.52
New Jersey | 20,803,661 | 20,215,513 | (588,148) | −2.83
New Mexico | 4,166,386 | 4,573,434 | 407,048 | 9.77
New York | 51,297,403 | 45,933,685 | (5,363,718) | −10.46
North Carolina | 23,389,183 | 22,906,147 | (483,036) | −2.07
North Dakota | 2,148,465 | 1,922,487 | (225,978) | −10.52
Ohio | 36,633,264 | 29,608,861 | (7,024,403) | −19.17
Oklahoma | 6,516,603 | 6,455,261 | (61,342) | −0.94
Oregon | 12,848,682 | 10,347,514 | (2,501,168) | −19.47
Pennsylvania | 29,034,229 | 26,995,920 | (2,038,309) | −7.02
Puerto Rico | 31,530,340 | 25,392,538 | (6,137,802) | −19.47
Rhode Island | 3,919,536 | 3,245,983 | (673,553) | −17.18
South Carolina | 16,317,914 | 13,141,414 | (3,176,500) | −19.47
South Dakota | 2,148,465 | 1,922,487 | (225,978) | −10.52
Tennessee | 18,105,616 | 15,820,576 | (2,285,040) | −12.62
Texas | 53,798,899 | 49,503,599 | (4,295,300) | −7.98
Utah | 2,816,695 | 3,276,560 | 459,865 | 16.33
Vermont | 2,148,465 | 1,922,487 | (225,978) | −10.52
Virginia | 11,828,202 | 12,422,005 | 593,803 | 5.02
Washington | 16,563,114 | 14,762,815 | (1,800,299) | −10.87
West Virginia | 4,058,158 | 4,403,989 | 345,831 | 8.52
Wisconsin | 11,729,145 | 11,261,887 | (467,258) | −3.98
Wyoming | 2,148,465 | 1,922,487 | (225,978) | −10.52
State Total | 859,386,150 | 768,994,615 | (90,391,535) | −10.52
Outlying Areas Total | 2,153,850 | 1,927,305 | (226,545) | −10.52

Table C—U.S. Department of Labor Employment and Training Administration
WIA Dislocated worker activities State allotments comparison of PY 2011 vs PY 2010: State | WIA Dislocated worker activities State allotments comparison of PY 2011 vs PY 2010: PY 2010 (pre-FY 2011 0.2% rescission) | WIA Dislocated worker activities State allotments comparison of PY 2011 vs PY 2010: PY 2011 | WIA Dislocated worker activities State allotments comparison of PY 2011 vs PY 2010: % Difference | WIA Dislocated worker activities State allotments comparison of PY 2011 vs PY 2010: Difference
Total | $1,413,000,000 | $1,287,544,000 | ($125,456,000) | −8.88
Alabama | 17,669,335 | 16,128,630 | (1,540,705) | −8.72
Alaska | 2,187,095 | 1,804,590 | (382,505) | −17.49
Arizona | 22,788,184 | 21,992,101 | (796,083) | −3.49
Arkansas | 6,867,051 | 6,535,066 | (331,985) | −4.83
California | 192,413,016 | 170,303,818 | (22,109,198) | −11.49
Colorado | 14,509,305 | 13,969,269 | (540,036) | −3.72
Connecticut | 11,850,579 | 12,117,862 | 267,283 | 2.26
Delaware | 2,778,921 | 2,526,887 | (252,034) | −9.07
District of Columbia | 2,990,511 | 2,592,780 | (397,731) | −13.30
Florida | 83,019,633 | 81,270,552 | (1,749,081) | −2.11
Georgia | 40,912,792 | 35,502,366 | (5,410,426) | −13.22
Hawaii | 3,268,124 | 2,539,205 | (728,919) | −22.30
Idaho | 4,536,856 | 4,240,518 | (296,338) | −6.53
Illinois | 54,673,396 | 52,391,500 | (2,281,896) | −4.17
Indiana | 27,257,656 | 22,971,198 | (4,286,458) | −15.73
Iowa | 5,888,367 | 6,222,410 | 334,043 | 5.67
Kansas | 6,855,442 | 5,780,312 | (1,075,130) | −15.68
Kentucky | 18,089,024 | 14,985,351 | (3,103,673) | −17.16
Louisiana | 9,812,674 | 8,768,499 | (1,044,175) | −10.64
Maine | 4,578,544 | 3,599,239 | (979,305) | −21.39
Maryland | 15,543,289 | 14,302,198 | (1,241,091) | −7.98
Massachusetts | 22,706,846 | 21,065,395 | (1,641,451) | −7.23
Michigan | 64,544,036 | 51,285,260 | (13,258,776) | −20.54
Minnesota | 18,020,939 | 12,889,304 | (5,131,635) | −28.48
Mississippi | 9,867,047 | 10,150,118 | 283,071 | 2.87
Missouri | 22,223,344 | 19,187,040 | (3,036,304) | −13.66
Montana | 2,174,950 | 2,047,301 | (127,649) | −5.87
Nebraska | 2,428,300 | 2,059,689 | (368,611) | −15.18
Nevada | 14,124,712 | 14,332,064 | 207,352 | 1.47
New Hampshire | 3,181,956 | 2,764,686 | (417,270) | −13.11
New Jersey | 33,365,324 | 32,250,359 | (1,114,965) | −3.34
New Mexico | 4,093,214 | 5,179,814 | 1,086,600 | 26.55
New York | 65,534,311 | 55,889,913 | (9,644,398) | −14.72
North Carolina | 44,039,515 | 35,096,512 | (8,943,003) | −20.31
North Dakota | 690,086 | 499,920 | (190,166) | −27.56
Ohio | 51,610,221 | 44,079,882 | (7,530,339) | −14.59
Oklahoma | 6,905,534 | 6,917,377 | 11,843 | 0.17
Oregon | 20,167,658 | 15,077,317 | (5,090,341) | −25.24
Pennsylvania | 39,561,993 | 37,972,551 | (1,589,442) | −4.02
Puerto Rico | 17,054,847 | 13,696,022 | (3,358,825) | −19.69
Rhode Island | 6,227,600 | 5,104,108 | (1,123,492) | −18.04
South Carolina | 23,089,893 | 19,186,456 | (3,903,437) | −16.91
South Dakota | 1,000,388 | 840,914 | (159,474) | −15.94
Tennessee | 26,930,077 | 22,128,000 | (4,802,077) | −17.83
Texas | 61,378,563 | 62,020,936 | 642,373 | 1.05
Utah | 4,625,970 | 6,063,094 | 1,437,124 | 31.07
Vermont | 1,787,950 | 1,243,942 | (544,008) | −30.43
Virginia | 18,472,220 | 18,481,552 | 9,332 | 0.05
Washington | 24,271,171 | 22,272,901 | (1,998,270) | −8.23
West Virginia | 4,551,211 | 4,558,971 | 7,760 | 0.17
Wisconsin | 19,934,322 | 17,345,523 | (2,588,799) | −12.99
Wyoming | 786,008 | 1,201,048 | 415,040 | 52.80
State Total | 1,183,840,000 | 1,063,432,320 | (120,407,680) | −10.17
Outlying Areas Total | 3,532,500 | 3,218,860 | (313,640) | −8.88
Other National Reserve | 225,627,500 | 220,892,820 | (4,734,680) | −2.10

Table D—U.S. Department of Labor, Employment and Training Administration
Employment Service (Wagner-Peyser) PY 2011 Final vs PY 2010 Final Allotments: State | Employment Service (Wagner-Peyser) PY 2011 Final vs PY 2010 Final Allotments: Final PY 2010 | Employment Service (Wagner-Peyser) PY 2011 Final vs PY 2010 Final Allotments: Final PY 2011 | Employment Service (Wagner-Peyser) PY 2011 Final vs PY 2010 Final Allotments: Difference | Employment Service (Wagner-Peyser) PY 2011 Final vs PY 2010 Final Allotments: % Difference
Total | $703,576,000 | $702,168,848 | ($1,407,152) | −0.20
Alabama | 9,042,125 | 9,001,789 | (40,336) | −0.45
Alaska | 7,648,207 | 7,632,911 | (15,296) | −0.20
Arizona | 12,822,660 | 13,258,184 | 435,524 | 3.40
Arkansas | 5,773,513 | 5,681,857 | (91,656) | −1.59
California | 84,038,299 | 83,952,834 | (85,465) | −0.10
Colorado | 10,944,825 | 10,866,249 | (78,576) | −0.72
Connecticut | 7,843,690 | 7,819,386 | (24,304) | −0.31
Delaware | 1,965,210 | 1,961,280 | (3,930) | −0.20
District of Columbia | 2,479,777 | 2,418,616 | (61,161) | −2.47
Florida | 40,350,319 | 41,764,675 | 1,414,356 | 3.51
Georgia | 20,714,232 | 20,557,324 | (156,908) | −0.76
Hawaii | 2,525,177 | 2,494,923 | (30,254) | −1.20
Idaho | 6,372,318 | 6,359,573 | (12,745) | −0.20
Illinois | 29,258,315 | 29,100,366 | (157,949) | −0.54
Indiana | 13,903,821 | 13,763,379 | (140,442) | −1.01
Iowa | 6,548,144 | 6,495,675 | (52,469) | −0.80
Kansas | 6,048,497 | 5,968,265 | (80,232) | −1.33
Kentucky | 9,125,242 | 9,075,114 | (50,128) | −0.55
Louisiana | 9,018,836 | 8,843,833 | (175,003) | −1.94
Maine | 3,789,556 | 3,781,977 | (7,579) | −0.20
Maryland | 11,800,235 | 11,722,275 | (77,960) | −0.66
Massachusetts | 14,269,289 | 14,234,162 | (35,127) | −0.25
Michigan | 24,475,871 | 24,113,898 | (361,973) | −1.48
Minnesota | 12,164,816 | 11,997,952 | (166,864) | −1.37
Mississippi | 6,285,179 | 6,165,253 | (119,926) | −1.91
Missouri | 13,030,412 | 12,903,606 | (126,806) | −0.97
Montana | 5,207,490 | 5,197,075 | (10,415) | −0.20
Nebraska | 6,258,380 | 6,245,863 | (12,517) | −0.20
Nevada | 6,370,598 | 6,550,359 | 179,761 | 2.82
New Hampshire | 2,859,890 | 2,833,820 | (26,070) | −0.91
New Jersey | 18,931,877 | 18,929,760 | (2,117) | −0.01
New Mexico | 5,843,720 | 5,832,033 | (11,687) | −0.20
New York | 40,405,589 | 40,044,986 | (360,603) | −0.89
North Carolina | 20,093,605 | 19,923,339 | (170,266) | −0.85
North Dakota | 5,302,783 | 5,292,177 | (10,606) | −0.20
Ohio | 26,537,471 | 26,306,239 | (231,232) | −0.87
Oklahoma | 6,902,154 | 6,853,237 | (48,917) | −0.71
Oregon | 8,902,979 | 8,821,269 | (81,710) | −0.92
Pennsylvania | 26,651,245 | 26,526,233 | (125,012) | −0.47
Puerto Rico | 8,070,562 | 7,871,512 | (199,050) | −2.47
Rhode Island | 2,652,902 | 2,639,094 | (13,808) | −0.52
South Carolina | 9,953,286 | 9,864,977 | (88,309) | −0.89
South Dakota | 4,900,991 | 4,891,189 | (9,802) | −0.20
Tennessee | 13,154,566 | 13,083,238 | (71,328) | −0.54
Texas | 48,080,415 | 48,565,592 | 485,177 | 1.01
Utah | 7,468,473 | 7,284,273 | (184,200) | −2.47
Vermont | 2,295,903 | 2,291,311 | (4,592) | −0.20
Virginia | 15,795,653 | 15,912,960 | 117,307 | 0.74
Washington | 14,688,343 | 14,651,411 | (36,932) | −0.25
West Virginia | 5,609,667 | 5,598,448 | (11,219) | −0.20
Wisconsin | 12,881,393 | 12,716,632 | (164,761) | −1.28
Wyoming | 3,802,426 | 3,794,821 | (7,605) | −0.20
State total | 701,860,926 | 700,457,204 | (1,403,722) | −0.20
Guam | 329,219 | 328,561 | (658) | −0.20
Virgin Islands | 1,385,855 | 1,383,083 | (2,772) | −0.20
Outlying areas total | 1,715,074 | 1,711,644 | (3,430) | −0.20

Table E—U.S. Department of Labor, Employment and Training Administration
Workforce information grants to States PY 2011 vs PY 2010 Allotments: State | Workforce information grants to States PY 2011 vs PY 2010 Allotments: PY 2010 | Workforce information grants to States PY 2011 vs PY 2010 Allotments: PY 2011 | Workforce information grants to States PY 2011 vs PY 2010 Allotments: Difference | Workforce information grants to States PY 2011 vs PY 2010 Allotments: % Difference
Total | $32,000,000 | $31,936,000 | ($64,000) | −0.20
Alabama | 505,992 | 500,647 | (5,345) | −1.06
Alaska | 288,781 | 288,982 | 201 | 0.07
Arizona | 631,779 | 632,935 | 1,156 | 0.18
Arkansas | 412,277 | 411,497 | (780) | −0.19
California | 2,515,778 | 2,483,795 | (31,983) | −1.27
Colorado | 577,959 | 570,990 | (6,969) | −1.21
Connecticut | 475,973 | 476,946 | 973 | 0.20
Delaware | 298,498 | 296,667 | (1,831) | −0.61
District of Columbia | 285,170 | 285,384 | 214 | 0.08
Florida | 1,377,429 | 1,379,470 | 2,041 | 0.15
Georgia | 832,325 | 821,518 | (10,807) | −1.30
Hawaii | 324,368 | 322,344 | (2,024) | −0.62
Idaho | 337,134 | 337,184 | 50 | 0.01
Illinois | 1,056,837 | 1,060,267 | 3,430 | 0.32
Indiana | 637,859 | 628,290 | (9,569) | −1.50
Iowa | 450,390 | 450,618 | 228 | 0.05
Kansas | 430,687 | 429,451 | (1,236) | −0.29
Kentucky | 498,273 | 499,293 | 1,020 | 0.20
Louisiana | 499,711 | 500,874 | 1,163 | 0.23
Maine | 331,210 | 330,405 | (805) | −0.24
Maryland | 608,631 | 607,963 | (668) | −0.11
Massachusetts | 665,387 | 671,621 | 6,234 | 0.94
Michigan | 840,933 | 840,199 | (734) | −0.09
Minnesota | 606,706 | 609,146 | 2,440 | 0.40
Mississippi | 404,978 | 403,784 | (1,194) | −0.29
Missouri | 613,786 | 612,168 | (1,618) | −0.26
Montana | 306,340 | 305,461 | (879) | −0.29
Nebraska | 365,970 | 364,956 | (1,014) | −0.28
Nevada | 416,502 | 412,224 | (4,278) | −1.03
New Hampshire | 335,493 | 335,675 | 182 | 0.05
New Jersey | 800,638 | 801,753 | 1,115 | 0.14
New Mexico | 362,201 | 362,260 | 59 | 0.02
New York | 1,439,096 | 1,431,886 | (7,210) | −0.50
North Carolina | 803,030 | 800,773 | (2,257) | −0.28
North Dakota | 289,915 | 289,407 | (508) | −0.18
Ohio | 974,547 | 973,816 | (731) | −0.08
Oklahoma | 461,686 | 461,908 | 222 | 0.05
Oregon | 487,891 | 484,674 | (3,217) | −0.66
Pennsylvania | 1,032,188 | 1,032,323 | 135 | 0.01
Puerto Rico | 408,794 | 404,628 | (4,166) | −1.02
Rhode Island | 314,349 | 314,871 | 522 | 0.17
South Carolina | 512,460 | 510,108 | (2,352) | −0.46
South Dakota | 299,507 | 298,888 | (619) | −0.21
Tennessee | 616,563 | 615,549 | (1,014) | −0.16
Texas | 1,704,900 | 1,734,172 | 29,272 | 1.72
Utah | 414,068 | 410,093 | (3,975) | −0.96
Vermont | 288,734 | 288,413 | (321) | −0.11
Virginia | 753,436 | 756,466 | 3,030 | 0.40
Washington | 679,171 | 677,933 | (1,238) | −0.18
West Virginia | 342,209 | 340,653 | (1,556) | −0.45
Wisconsin | 624,061 | 617,807 | (6,254) | −1.00
Wyoming | 280,600 | 280,219 | (381) | −0.14
State total | 31,823,200 | 31,759,354 | (63,846) | −0.20
Guam | 92,899 | 92,813 | (86) | −0.09
Virgin Islands | 83,901 | 83,833 | (68) | −0.08
Outlying areas total | 176,800 | 176,646 | (154) | −0.09

[FR Doc. 2011-11881 Filed 5-16-11; 8:45 am]

BILLING CODE 4510-FN-P